DEPARTMENT OF JUSTICE

Charter Renewal for the Task Force on Research on Violence Against American Indian and Alaska Native Women

AGENCY: Office on Violence Against Women, Department of Justice.

ACTION: Notice of charter renewal.

SUMMARY: Pursuant to the Federal Advisory Committee Act (FACA), as amended, and Title IX of the Violence Against Women Act of 2005 (VAWA 2005), the Attorney General has determined that the renewal of the Task Force on Research on Violence Against American Indian and Alaska Native Women (hereinafter “the Task Force”) is necessary and in the public interest and will provide information that will assist the National Institute of Justice (NIJ) to develop and implement a program of research on violence against American Indian and Alaska Native women, including domestic violence, dating violence, sexual assault, stalking, sex trafficking, and murder.

FOR FURTHER INFORMATION CONTACT: Sherriann C. Moore, Deputy Director for Tribal Affairs, Office on Violence Against Women, United States Department of Justice, 145 N Street NE, Suite 10W.121, Washington, DC 20530, 202-616-0039.

SUPPLEMENTARY INFORMATION: The program of research will evaluate the effectiveness of the Federal, state, tribal, and local response to violence against women and will propose recommendations to improve these responses. Title IX of VAWA 2005 also required the Attorney General to establish a Task Force to assist NIJ with development of the research study and the implementation of the recommendations. The Attorney General, acting through the Director of the Office on Violence Against Women, originally established the Task Force on March 31, 2008. The Charter to renew the Task Force was filed with Congress on June 26, 2020. The Task Force is comprised of representatives from national tribal domestic violence and sexual assault nonprofit organizations, tribal governments, and national tribal organizations. Task Force members, with the exception of travel and per diem for official travel, shall serve without compensation. The Director of the Office on Violence Against Women shall serve as the Designated Federal officer for the Task Force.

Dated: June 30, 2020.
Laura Rogers,
Acting Director, Office on Violence Against Women.

[FR Doc. 2020-14983 Filed 7-20-20; 8:45 am]

BILLING CODE 4410-FX-P